DEPARTMENT OF THE INTERIOR

Notice of Intent To Negotiate a Contract Between the Central Utah Water Conservancy District and Department of the Interior for Prepayment of Costs Allocated to Municipal and Industrial Water From the Bonneville Unit of the Central Utah Project, Utah

AGENCY: Office of the Assistant Secretary—Water and Science, Department of the Interior.

ACTION: Notice of intent to negotiate a contract between the Central Utah Water Conservancy District (CUWCD) and Department of the Interior (DOI) for prepayment of costs allocated to municipal and industrial water from the Bonneville Unit of the Central Utah Project, Utah.

SUMMARY: Public Law 102-575, Central Utah Project Completion Act, Section 210, as amended through Public Law 104-286, stipulates that: “The Secretary shall allow for prepayment of the repayment contract between the United States and the Central Utah Water Conservancy District dated December 28, 1965, and supplemented on November 26, 1985, providing for repayment of municipal and industrial water delivery facilities for which repayment is provided pursuant to such contract, under terms and conditions similar to those contained in the supplemental contract that provided for the prepayment of the Jordan Aqueduct dated October 28, 1993. The prepayment may be provided in several installments to reflect substantial completion of the delivery facilities being prepaid and may not be adjusted on the basis of the type of prepayment financing utilized by the District.” In accordance with the above referenced legislation CUWCD intends to prepay the costs obligated under repayment contract No. 14-06-400-4286, as supplemented. This contract will provide for the third installment in a series of prepayments. The terms of the prepayment are to be publicly negotiated between CUWCD and DOI.

DATES: Dates for public negotiation sessions will be announced in local newspapers.

FOR FURTHER INFORMATION: Additional information on matters related to this Federal Register notice can be obtained at the address and telephone number set forth below: Mr. Michael Hansen, Program Coordinator, CUP Completion Act Office, Department of the Interior, 302 East 1860 South, Provo UT 84606-6154, Telephone: (801) 379-1194, E-Mail address: mhansen@uc.usbr.gov.

Dated: January 24, 2000.
Ronald Johnston,
CUP Program Director, Department of the Interior.

[FR Doc. 00-2082 Filed 1-31-00; 8:45 am]

BILLING CODE 4310-RK-U